DEPARTMENT OF COMMERCE

International Trade Administration

[A-570-898]

Chlorinated Isocyanurates From the People's Republic of China: Rescission of Antidumping Duty New Shipper Review

AGENCY: Import Administration, International Trade Administration, Department of Commerce.

DATES: Effective Date: April 2, 2012.

SUMMARY: The Department of Commerce (the Department) initiated a new shipper review of the antidumping duty order on chlorinated isocyanurates (chlorinated isos) from the People's Republic of China (PRC) for the period of June 1, 2011, through February 29, 2012. As discussed below, we determine that the producer and exporter Puyang Cleanway Chemicals Ltd. (Puyang Cleanway) did not satisfy the regulatory requirements to request a new shipper review; therefore, we are rescinding this new shipper review.

FOR FURTHER INFORMATION CONTACT: Andrew Huston, AD/CVD Operations, Office 6, Import Administration, International Trade Administration, U.S. Department of Commerce, 14th Street and Constitution Avenue NW., Washington, DC 20230; telephone: (202) 482-4261.

SUPPLEMENTARY INFORMATION

Background

The antidumping duty order on chlorinated isos from the PRC was published on June 24, 2005. See Notice of Antidumping Duty Order: Chlorinated Isocyanurates from the People's Republic of China, 70 FR 36561 (June 24, 2005). On December 30, 2011, the Department received a timely request for a new shipper review (NSR) from Puyang Cleanway in accordance with 19 CFR 351.214(c) and 19 CFR 351.214(d). On January 31, 2012, the Department initiated the NSR. See Chlorinated Isocyanurates From the People's Republic of China: Initiation of New Shipper Review, 77 FR 5773 (February 6, 2012) (Initiation Notice).

Period of Review

Usually, in accordance with 19 CFR 351.214(g)(1)(i)(B), the period of review (POR) for new shipper reviews initiated in the month immediately following the semi-annual anniversary month is the six-month period immediately preceding the semiannual anniversary month (in this instance, June 1, 2011, through November 30, 2011). Puyang Cleanway's sale, which took place in November of the POR, had not yet entered by the end of the standard regulatory POR. The Department, however, has in the past extended a POR forward to capture entries for sales made during the POR that have not yet entered during the POR specified by the Department's regulations. Therefore, consistent with 19 CFR.214(f)(2)(ii), the Department stated, in the Initiation Notice, that it was extending the POR for the NSR forward to allow Puyang Cleanway to enter this sale. We stated that in no case, however, would we extend the POR past February 29, 2012. This decision allowed Puyang Cleanway more than three months to enter its November shipment.

Scope of the Order

The products covered by the order are chlorinated isocyanurates (chlorinated isos), which are derivatives of cyanuric acid, described as chlorinated s-triazine triones. There are three primary chemical compositions of chlorinated isos: (1) Trichloroisocyanuric acid (Cl3(NCO)3), (2) sodium dichloroisocyanurate (dihydrate) (NaCl2(NCO)3(2H2O), and (3) sodium dichloroisocyanurate (anhydrous) (NaCl2(NCO)3). Chlorinated isos are available in powder, granular, and tableted forms. The order covers all chlorinated isos.C

Chlorinated isos are currently classifiable under subheadings 2933.69.6015, 2933.69.6021, 2933.69.6050, 3808.40.50, 3808.50.40 and 3808.94.5000 of the Harmonized Tariff Schedule of the United States (HTSUS). The tariff classification 2933.69.6015 covers sodium dichloroisocyanurates (anhydrous and dihydrate forms) and trichloroisocyanuric acid. The tariff classifications 2933.69.6021 and 2933.69.6050 represent basket categories that include chlorinated isos and other compounds including an unfused triazine ring. Although the HTSUS subheadings are provided for convenience and customs purposes, the written description of the scope of the order is dispositive.

Rescission of the Antidumping Duty New Shipper Review of Puyang Cleanway

In the Initiation Notice, the Department extended the POR to allow Puyang Cleanway to complete entry of its sale of subject merchandise. The Department stated in the Initiation Notice that, if this sale had not yet entered by February 29, 2012, the Department intended to rescind this NSR. The Department contacted Puyang Cleanway's counsel regarding this entry and received no indication that the shipment had entered the country. See Memorandum to the File, “Information Regarding Entries of Subject Merchandise During the Period of Review,” March 16, 2012. Entry data requested from U.S. Customs and Border Protection (CBP) does not indicate that this shipment has entered the country. Id. Because Puyang Cleanway has not demonstrated that this sale has entered the United States, there is no basis for conducting an NSR since there must be a suspended entry in order for the Department to conduct the review. Therefore, we are rescinding the NSR of Puyang Cleanway.

Assessment Rates

Any entries of exports made by Puyang Cleanway will be subject to the PRC-wide rate. The Department is currently conducting an administrative review for the POR, June 1, 2010, through May 31, 2011, in which the PRC-wide rate is under review. See Initiation of Antidumping and Countervailing Duty Administrative Reviews, Request for Revocations in Part and Deferral of Administrative Reviews, 76 FR 45227 (July 28, 2011). We will instruct CBP to assess antidumping duties on entries exported by Puyang Cleanway at the appropriate PRC-wide rate determined in the 2010-2011 administrative review. Because there were no suspended entries at the time of initiation, no bonding option instructions were sent to CBP at the initiation of this NSR; therefore the Department does not need to issue instructions to CBP no longer allowing posting a bond in lieu of cash-deposit, as is typically done when an NSR is rescinded.

Notification Regarding Administrative Protective Orders

This notice is the only reminder to parties subject to an administrative protective order (APO) of their responsibility concerning the return or destruction of proprietary information disclosed under the APO in accordance with 19 CFR 351.305(a)(3). Timely written notification of the return or destruction of APO materials or conversion to judicial protective order is hereby requested. Failure to comply with the regulations and the terms of an APO is a sanctionable violation.

Notification to Importers

This notice serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are publishing this determination and notice in accordance with sections 751(a)(2)(B) and 777(i) of the Act and 19 CFR 351.214(f)(3).

March 26, 2012.
Gary Taverman,
Acting Deputy Assistant Secretary for Antidumping and Countervailing Duty Operations.

[FR Doc. 2012-7843 Filed 3-30-12; 8:45 am]

BILLING CODE 3510-DS-P